DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of September 17, 2018 through October 19, 2018. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) the sales or production, or both, of such firm, have decreased absolutely;

AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services From a Foreign Country Path

(i) (I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) the workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
93,922 | Abbott Associates, Inc., Steadfast Staffing Solutions, LLC | Milford, CT | June 22, 2017.
93,990 | StrongArm, LLC, AVM Industries, Trico-Group, LLC, Environmental Staffing Carolina Office | Marion, SC | July 18, 2017.
94,030 | The Hartz Mountain Corporation, Staffing Resources | Logansport, IN | July 27, 2017.
94,033 | AF Gloenco, AFGlobal Corporation | Newport, NH | July 23, 2017.
94,053 | MasterBrand Cabinets, Inc., Fortune Brands Home & Security, Inc | Auburn, AL | August 8, 2017.
94,069 | Oregon Canadian Forest Products, Inc., Aerotek, Xpand Staffing, Express Employment Professionals | North Plains, OR | August 20, 2017.
94,164 | Kayser-Roth Corporation, GoldenPointe SpA, Right Time Right Place Staffing, Metro Industrial, etc | Dayton, TN | September 21, 2017.

The following certifications have been issued. The requirements of Section 222(a)(2)(B) (Shift in Production or Services to a Foreign Country Path or Acquisition of Articles or Services from a Foreign Country Path) of the Trade Act have been met.

TA-W No. | Subject firm | Location | Impact date
92,945 | Progress Rail Locomotive, Inc., Caterpillar, Inc., APL Logistics Warehouse Management Services, Inc | Hodgkins, IL | June 12, 2016.
93,582 | Ericsson, Inc., BNEW GSO SEU HES PSE2 CS Group | Plano, TX | February 27, 2017.
93,711 | Ericsson, Inc., Networks Engineering Services Network Configuration Operations, etc | Overland Park, KS | April 10, 2017.
93,717 | Jabil Inc., Adecco | Poughkeepsie, NY | April 12, 2017.
93,737 | Ocwen Financial Corporation, Kelly Vendor Management Services (KVMS) | Addison, TX | April 17, 2017.
93,764 | Work Market, Insight Global, EMC Storage Management Support, BNT, etc., ATOS IT Solutions and Services, Inc | Mason, OH | April 25, 2017.
93,764A | ATOS IT Solutions and Services, Inc., NSC Global Managed Services, LLC | Mason, OH | October 17, 2017.
93,765 | Ergotron, Inc., Tualatin Division, Dongguan Ergotron Precision Technology, Randstad, etc | Tualatin, OR | April 25, 2017.
93,913 | Regal Beloit America Inc., Blytheville, Arkansas Division, Regal Beloit Corporation | Blytheville, AR | June 21, 2017.
93,917 | General Electric Company, GE Transportation Parts, Transportation Division, etc | Erie, PA | June 24, 2018.
93,917A | Association of Corporate Counsel America Chicago Chapter, Bay Area Techworkers, Capgemini America, Inc., Dornerworks, Ltd., etc | Erie, PA | June 22, 2017.
93,951 | El Paso Specialty Hospital, El Paso Orthopaedic Group | El Paso, TX | July 3, 2017.
93,960 | NTT DATA Services, LLC, Infrastructure Cloud Security, Platform Engineering Storage Services | Plano, TX | July 6, 2017.
93,963 | Amdocs, Inc., GSS Legacy Division, Amdocs Ltd., IQN | Chesterfield, MO | July 9, 2017.
93,980 | Deluxe Media Inc., Deluxe Entertainment Services Group Inc., Deluxe Shared Services Inc., etc | Burbank, CA | July 9, 2017.
93,982 | MetrixLab US, Inc., Acturus, Inc., Graphics, Marketing, and Finance Teams, Macromill Group | Farmington, CT | July 12, 2017.
93,985 | Regal Beloit Corporation | Nixa, MO | July 13, 2017.
94,005 | Ernst &amp; Young LLP, Sprint Property Tax Division | Wichita, KS | July 23, 2017.
94,011 | Rivulis Irrigation, Inc., Rivulis Irrigation, Express Employment Professionals, Ambassador Personnel | Valdosta, GA | July 25, 2017.
94,028 | Biosense Webster Inc., Irwindale-New Product Development Team, Ethicon USA Inc., Kelly Services | Irwindale, CA | July 30, 2017.
94,028A | Biosense Webster Inc., Baldwin Park Distribution Center, Ethicon USA Inc., Kelly Services | Baldwin Park, CA | July 30, 2017.
94,038 | CDK Global, LLC, Product Management, CDK Global, Pro Unlimited, etc | Portland, OR | August 1, 2017.
94,040 | DWK Life Sciences, Inc., One Equity Partners | Millville, NJ | July 25, 2017.
94,041 | Centrex Revenue Solutions, LLC, EMS Revenue Cycle Solutions, Returned Mail, Centrex Revenue Solutions, etc | Akron, OH | August 2, 2017.
94,047 | Massachusetts Mutual Life Insurance Company, MM Technology Administration Applications &amp; Operations Support Unit, etc | Enfield, CT | August 7, 2017.
94,048 | Parexel International, Corporate Business Unit | Billerica, MA | August 3, 2017.
94,054 | UTC Aerospace Systems, Air Management Systems, United Technologies Corporation | Windsor Locks, CT | August 8, 2017.
94,055 | The Scott Fetzer Company d/b/a Ginsu Brands, Ginsu Brands Division, Advance Services, Inc., Staffmark | Walnut Ridge, AR | August 9, 2017.
94,056 | International Business Machines (IBM), Q01A Supply Assurance, IBM Systems Division, Manpower | San Jose, CA | August 9, 2017.
94,062 | Xerox Business Services, Communication Services, Xerox | Webster, NY | August 13, 2017.
94,065 | Barnett Outdoors, LLC, Alliance, Flexicorp | Tarpon Springs, FL | August 17, 2017.
94,071 | Prestolite Electric Incorporated, Broad Ocean Motor, LLC, Adecco Employment Services | Arcade, NY | November 23, 2018.
94,072 | R&M Sea Level Marine LLC, Hood River Division, R&M Ship Technologies USA, Inc | Hood River, OR | August 21, 2017.
94,080 | Ernst & Young LLP, EY Technology Division | Secaucus, NJ | August 22, 2017.
94,081 | Finastra USA Corporation, Finastra Technology Inc., Finastra Merchant Services, Inc., etc | New York, NY | August 22, 2017.
94,081A | Finastra USA Corporation, Finastra Technology Inc., Finastra Merchant Services, Inc., etc | Burlington, MA | August 22, 2017.
94,082 | Health Care Service Corporation (HCSC), Remote Workers from Virginia Reporting to Chicago, Illinois | Chicago, IL | August 22, 2017.
94,083 | Hologic, Inc., Cynosure-Ellman Division | Hicksville, NY | August 22, 2017.
94,087 | Royal Caribbean Cruises Ltd., Royal Caribbean International Division, Customer Contact Services Center | Springfield, OR | August 22, 2017.
94,099 | CH2M Hill Engineers, Inc., Jacobs Engineering Group, CH2M Hill, The Bergaila Companies, etc | Corvallis, OR | August 28, 2017.
94,100 | Clockwork Acquisition II, Inc., Direct Energy, RGS Holding Corporation, American Cyber Systems, etc | Tempe, AZ | August 28, 2017.
94,103 | Nokia of America Corporation, Nokia, Nokia Solutions & Networks LLC, Alcatel-Lucent | Murray Hill, NJ | August 29, 2017.
94,106 | Nokia of America Corporation, Nokia, Nokia Solutions & Networks LLC, Alcatel-Lucent USA Inc | Dublin, OH | August 30, 2017.
94,107 | Fujitsu Network Communications, Inc., Fujitsu Limited | Richardson, TX | September 4, 2017.
94,109 | Ricoh USA, Inc., Ricoh Americas Holdings, Inc | Houston, TX | August 7, 2017.
94,109A | Ricoh USA, Inc., Ricoh Americas Holdings, Inc | Houston, TX | August 7, 2017.
94,112 | Caterpillar Inc., CR Coatings, The Tool & Gage House, Vonachen Services Inc., Securitas | Joliet, IL | August 6, 2018.
94,112A | On-Site Leased Workers From APTIM, Caterpillar Inc | Joliet, IL | September 6, 2017.
94,115 | ITT Inc. Connect &amp; Control Technologies, ITT Cannon, LLC Division, ITT Inc | Irvine, CA | September 6, 2017.
94,116 | Williamson Dickie Manufacturing Company, Image Wear Division, VF Corporation | Uvalde, TX | September 5, 2017.
94,120 | TE Connectivity, Corporate Finance Department | Middletown, PA | September 6, 2017.
94,130 | Nortek Global HVAC, Light Commercial Division, Melrose Industries PLC | Mercer, PA | September 13, 2017.
94,133 | Schmidtâ€™s Deodorant Company, LLC, Begin Right Employment Services, Express Employment Professionals, etc | Portland, OR | September 13, 2017.
94,136 | Kranos Corporation dba Schutt Sports, Schutt Reconditioning, Epic Personnel Partners LLC, Express Employment | Easton, PA | September 12, 2017.
94,137 | Acuity Brands Lighting, Inc., Juno Lighting Division, Acuity Brands, Inc., Superior Staffing | Des Plaines, IL | September 17, 2017.
94,144 | Walmart Optical Lab, #9065, Walmart, Inc | Crawfordsville, IN | September 17, 2017.
94,146 | DJO Global, Aerotek, C.F.S., PrincetonOne, TempForce, Medix, Stephen James, etc | New Brighton, MN | September 18, 2017.
94,150 | Healthcare Management Administrators, Inc. (HMA), Regence Blue Shield, Robert Half Technology, Aerotek, Inc., etc | Bellevue, WA | September 18, 2017.
94,153 | Respironics Novametrix, LLC, Respironics, Inc., Randstad | Wallingford, CT | September 19, 2017.
94,162 | Horizon Travel Services LLC DBA AlliedTPro, Escorted Tours Department | Henderson, NV | September 21, 2017.
94,179 | Voxpro LLC | Athens, GA | September 26, 2017.
94,196 | Maximum Solutions, ACTIVE Network LLC, Robert Half International Inc., IRIS Consulting Corp | Edina, MN | October 2, 2017.
94,206 | Sonoco Products, Plastics Division, Manpower, Kelly Services Inc, Infinity Staffing, etc | Hollister, CA | October 4, 2017.
94,209 | Computerized Management Services, Inc | Simi Valley, CA | October 5, 2017.

The following certifications have been issued. The requirements of Section 222(b) (supplier to a firm whose workers are certified eligible to apply for TAA) of the Trade Act have been met.

TA-W No. | Subject firm | Location | Impact date
93,863 | Chemtrade Solutions LLC, Acid/SPPC Division, Chemtrade Logistics Inc | Augusta, GA | May 21, 2017.

The following certifications have been issued. The requirements of Section 222(e) (firms identified by the International Trade Commission) of the Trade Act have been met.

TA-W No. | Subject firm | Location | Impact date
93,895 | Keystone Consolidated Industries, Inc., Keystone Steel & Wire Division, ManPower, Kelly Services | Peoria, IL | July 8, 2018.
93,911 | Columbia Forest Products, All in a Day Temporary Services, Inc. (A.I.D.) | Trumann, AR | December 27, 2016.
93,961 | Nucor Steel Birmingham, Inc., Nucor Corporation, ITAC Solutions, PangeaTwo, Randstad, etc | Birmingham, AL | July 7, 2016.
93,964 | REG Seneca Renewable Energy Group, Inc | Seneca, IL | December 28, 2016.
94,020 | Columbia Forest Products, Express Employment Professionals, BBSI | Boardman, OR | December 27, 2016.
94,021 | Columbia Forest Products, Express Employment Professionals | Klamath Falls, OR | December 27, 2016.
94,024 | States Industries, Selectemp, Elwood, Express Staffing Services | Eugene, OR | December 27, 2016.
94,039 | Roseburg Forest Products, Hardwood Plywood Division | Dillard, OR | December 27, 2016.
94,073 | REG Ralston, LLC, REG Biofuels, LLC | Ralston, IA | December 28, 2016.
94,074 | REG Mason City, LLC, REG Fuels, LLC | Mason City, IA | December 28, 2016.
94,075 | REG Newton, LLC, Reg Fuels, LLC | North Newton, IA | December 28, 2016.
94,076 | AG Processing Inc a cooperative | Algona, IA | December 28, 2016.
94,077 | AG Processing Inc a cooperative | Sergeant Bluff, IA | December 28, 2016.
94,078 | Cargill's Agricultural Supply Chain, North America, Cargill Incorporated | Iowa Falls, IA | December 28, 2016.
94,088 | W2Fuel LLC | Crawfordsville, IA | December 28, 2016.
94,089 | Western Dubuque Biodiesel, LLC | Farley, IA | December 28, 2016.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
93,923 | Cascade Steel Rolling Mills, Inc., Schnitzer Steel Industries, Inc | McMinnville, OR

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
93,958 | Lam Research Corporation, Deposition Business Unit, Superior Talent Resources, Inc | Tualatin, OR
94,058 | Pacific Stainless Products, Inc | Saint Helens, OR

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
93,706 | Chesapeake Operating, LLC, Oklahoma City Corporate Office, Chesapeake Energy Corporation, etc | Oklahoma City, OK |
93,706A | Chesapeake Operating, LLC, Waynoka Field Office, Chesapeake Energy Corporation, AFS Petrologix, etc | Waynoka, OK
93,738 | Free People, Urban Outiftters, Inc | Philadelphia, PA
93,800 | Qorvo US, Inc., Qorvo, Inc., Volt Workforce Solutions, Two Degrees, Aston Carter, etc | Hillsboro, OR
93,851 | Hillphoenix, Inc., Dover Corporation, Advantastaff, Inc., Ajilon Staffing | Colonial Heights, VA
93,859 | Intertek USA, Inc. dba Intertek Pilot Plant Services, Intertek Group PLC, Apex Life Sciences | Pittsburgh, PA
93,948 | Clearwater Paper Company, Consumer Products Division, Express Employment Professions | Lewiston, ID
93,978 | Ardagh Glass Inc., Ardagh Holdings Ltd | Simsboro, LA
93,991 | Bank of America, Bank of America, N.A., Global Financial Services Division | Westlake, CA
93,992 | IMAX (Rochester) Inc., IMAX USA, Inc., IMAX Corporation | Rochester, NY
94,004 | Ericsson Inc., AT-Tech, Artech, HL Yoh, Insight Global, Project People | Overland Park, KS
94,009 | DST Pharmacy Solutions, Midwest Consulting Group, Ecco Select, RMK Consulting | Kansas City, MO
94,013 | Guynes Packaging and Printing dba Boutwell, Owens & Co. Inc., Job Connection | El Paso, TX
94,031 | iQor Holdings US LLC | Simi Valley, CA
94,032 | Nu-World Amaranth dba Nu-World Foods | Naperville, IL
94,032A | Nu-World Amaranth dba Nu-World Foods, 594 6th Avenue NW | Dyersville, IA
94,032B | Nu-World Amaranth dba Nu-World Foods, 612 6th Avenue NW | Dyersville, IA
94,032C | Nu-World Amaranth dba Nu-World Foods, 2330 Industrial Parkway | Dyersville, IA

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
94,061 | US Foods | Sioux City, IA
94,092 | Aerotek, Inc., International Business Machines (IBM), Seretus, Inc | Hillsboro, OR

The following determinations terminating investigations were issued because the worker group on whose behalf the petition was filed is covered under an existing certification.

TA-W No. | Subject firm | Location | Impact date
93,739 | Ericsson, Inc., Regional North America Engagement Practices Consulting & Systems, etc | Richardson, TX
93,739A | Ericsson, Inc., Regional North America Engagement Practices Consulting & Systems, etc | Irving, TX
93,838 | U.S. Security Associates, Gerdau Ameristeel US, Inc., Calvert City Mill Division | Calvert City, KY
93,966 | Bonney Staffing Center, Owens Corning Technical Fabrics, LLC, Owens Corning Composite Materials | Brunswick, ME
93,969 | Penske Logistics, El Paso Distribution Center, Customer Service Group & Accounts Payment, etc | El Paso, TX
93,970 | Applied Biosystems, Thermo Fisher Scientific, Genetic Sciences Division, A.P.R., Inc., etc | Austin, TX
93,975 | DST Brokerage Solutions, DST Systems, Inc., DST Technologies, SS&C Technologies, Inc | Baltimore, MD
93,975A | DST Systems, Inc., SS&C Technologies, Inc | Kansas City, MO
93,984 | Hewlett Packard Enterprise, Global Support Delivery Supply Chain Division, HP Inc | Andover, MA
94,035 | Necco | Revere, MA
94,060 | Environmental Assurance Company Inc., AES Ohio Generation (DP&L), JMSS Division | Aberdeen, OH
94,063 | Triumph Aerostructures, Marshall Street Facility, Triumph Aerospace Structure Division, etc | Grand Prairie, TX
94,134 | Bombardier Transportation (Holdings) USA, Inc., Americas Region (AME) Division, Systems Division and Rolling Stock, etc | Pittsburgh, PA
94,134A | Pro-Tech, Belcan, Cyient, IKOS, Bombardier Transportation (Holdings) USA, Inc., Americas Region (AME), etc | Pittsburgh, PA

I hereby certify that the aforementioned determinations were issued during the period of September 17, 2018 through October 19, 2018. These determinations are available on the Department's website https://www.doleta.gov/tradeact/taa/taa_search_form.cfm under the searchable listing determinations or by calling the Office of Trade Adjustment Assistance toll free at 888-365-6822.

Signed at Washington, DC, this 31st day of October 2018.
Hope D. Kinglock,
Certifying Officer, Office of Trade Adjustment Assistance.

[FR Doc. 2018-26190 Filed 11-30-18; 8:45 am]

BILLING CODE 4510-FN-P